INTERNATIONAL TRADE COMMISSION

[USITC SE-00-016]

Sunshine Act Meeting

AGENCY HOLDING THE MEETING: United States International Trade Commission.

TIME AND DATE: April 20, 2000 at 11:00 a.m.

PLACE: Room 101, 500 E Street SW, Washington, DC 20436, Telephone: (202) 205-2000.

STATUS: Open to the public.

MATTERS TO BE CONSIDERED: 1. Agenda for future meeting: none.

2. Minutes.

3. Ratification List.

4. Inv. Nos. 731-TA-406 and 408 (Review)(Electrolytic Manganese Dioxide from Greece and Japan)—briefing and vote. (The Commission will transmit its determination to the Secretary of Commerce on May 9, 2000.)

5. Outstanding action jackets: none.

In accordance with Commission policy, subject matter listed above, not disposed of at the scheduled meeting, may be carried over to the agenda of the following meeting.

Issued: April 3, 2000.
By order of the Commission.
Donna R. Koehnke,
Secretary.

[FR Doc. 00-8777 Filed 4-5-00; 2:06 pm]

BILLING CODE 7020-02-P